DEPARTMENT OF ENERGY

Federal Energy Regulatory Commission

Combined Notice of Filings #1

Take notice that the Commission received the following electric rate filings:

Docket Numbers: ER18-185-000.

Applicants: Enerwise Global Technologies, Inc.

Description: Request for Limited Waiver of ISO New England, Inc. Tariff of Enerwise Global Technologies, Inc.

Filed Date: 10/30/17.

Accession Number: 20171030-5220.

Comments Due: 5 p.m. ET 11/20/17.

Docket Numbers: ER18-195-000.

Applicants: American Electric Power Service Corporation, Southwest Power Pool, Inc.

Description: § 205(d) Rate Filing: AEP Formula Rate Revisions to be effective 1/1/2018.

Filed Date: 10/31/17.

Accession Number: 20171031-5311.

Comments Due: 5 p.m. ET 11/21/17.

Docket Numbers: ER18-196-000.

Applicants: Duke Energy Carolinas, LLC.

Description: § 205(d) Rate Filing: DEC-Central Electric Fifth Amended and Restated RS No. 336 to be effective 1/1/2017.

Filed Date: 10/31/17.

Accession Number: 20171031-5321.

Comments Due: 5 p.m. ET 11/21/17.

Docket Numbers: ER18-197-000.

Applicants: Alabama Power Company.

Description: § 205(d) Rate Filing: FPU NITSA Amendment Filing to be effective 1/1/2018.

Filed Date: 10/31/17.

Accession Number: 20171031-5334.

Comments Due: 5 p.m. ET 11/21/17.

Docket Numbers: ER18-198-000.

Applicants: Pacific Gas and Electric Company.

Description: § 205(d) Rate Filing: Q3 2017 Quarterly Filing of City and County of San Francisco's WDT SA (SA 275) to be effective 9/30/2017.

Filed Date: 10/31/17.

Accession Number: 20171031-5336.

Comments Due: 5 p.m. ET 11/21/17.

Docket Numbers: ER18-199-000.

Applicants: Otter Tail Power Company.

Description: § 205(d) Rate Filing: Revisions to CASOT Service Agreement No. 4 with East River Electric Power Cooper to be effective 1/1/2018.

Filed Date: 10/31/17.

Accession Number: 20171031-5362.

Comments Due: 5 p.m. ET 11/21/17.

Docket Numbers: ER18-200-000.

Applicants: Otter Tail Power Company.

Description: § 205(d) Rate Filing: Notice of Termination of Rate Schedule No. 168, East River ITSA to be effective 12/31/2017.

Filed Date: 10/31/17.

Accession Number: 20171031-5373.

Comments Due: 5 p.m. ET 11/21/17.

Docket Numbers: ER18-201-000.

Applicants: Arizona Public Service Company.

Description: § 205(d) Rate Filing: Rate Schedule No. 33—WAPA Triangle Agreement, Exhibit A Revision No. 52 to be effective 12/31/2017.

Filed Date: 10/31/17.

Accession Number: 20171031-5376.

Comments Due: 5 p.m. ET 11/21/17.

Docket Numbers: ER18-202-000.

Applicants: Startrans IO, LLC.

Description: § 205(d) Rate Filing: TRBAA 2018 Update to be effective 1/1/2018.

Filed Date: 10/31/17.

Accession Number: 20171031-5379.

Comments Due: 5 p.m. ET 11/21/17.

Docket Numbers: ER18-203-000.

Applicants: Appalachian Power Company.

Description: § 205(d) Rate Filing: APCo-Radford PSA Cancellation to be effective 9/30/2017.

Filed Date: 11/1/17.

Accession Number: 20171101-5036.

Comments Due: 5 p.m. ET 11/22/17.

Docket Numbers: ER18-204-000.

Applicants: PacifiCorp.

Description: Notice of Termination of PacifiCorp (Rate Schedule No. 607) Lease Agreement.

Filed Date: 10/31/17.

Accession Number: 20171031-5387.

Comments Due: 5 p.m. ET 11/21/17.

Docket Numbers: ER18-205-000.

Applicants: Pacific Gas and Electric Company.

Description: Notice of Termination of Pacific Gas and Electric Company (Rate Schedule No. 240) Lease Agreement.

Filed Date: 10/31/17.

Accession Number: 20171031-5388.

Comments Due: 5 p.m. ET 11/21/17.

Take notice that the Commission received the following electric securities filings:

Docket Numbers: ES18-5-000.

Applicants: Baltimore Gas and Electric Company.

Description: Application of Baltimore Gas and Electric Company under Section 204 of the Federal Power Act for Authorization of the Issuance of Securities.

Filed Date: 10/31/17.

Accession Number: 20171031-5382.

Comments Due: 5 p.m. ET 11/21/17.

Docket Numbers: ES18-6-000.

Applicants: Commonwealth Edison Company.

Description: Application of Commonwealth Edison Company under Section 204 of the Federal Power Act for Authorization of the Issuance of Securities.

Filed Date: 10/31/17.

Accession Number: 20171031-5383.

Comments Due: 5 p.m. ET 11/21/17.

Docket Numbers: ES18-7-000.

Applicants: PECO Energy Company.

Description: Application of PECO Energy Company under Section 204 of the Federal Power Act for Authorization of the Issuance of Securities.

Filed Date: 10/31/17.

Accession Number: 20171031-5385.

Comments Due: 5 p.m. ET 11/21/17.

Docket Numbers: ES18-8-000.

Applicants: Delmarva Power & Light Company, Potomac Electric Power Company.

Description: Joint Application of Delmarva Power & Light Company and Potomac Electric Power Company under Section 204 of the Federal Power Act for Authorization to Issue Securities.

Filed Date: 10/31/17.

Accession Number: 20171031-5386.

Comments Due: 5 p.m. ET 11/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2017.
Nathaniel J. Davis, Sr.,
Deputy Secretary.

[FR Doc. 2017-24148 Filed 11-6-17; 8:45 am]

BILLING CODE 6717-01-P